DEPARTMENT OF THE INTERIOR

Fish and Wildlife Service

[FWS-R5-R-2011-N222; BAC-4311-K9-S3]

Great Bay National Wildlife Refuge, Rockingham County, NH

AGENCY: Fish and Wildlife Service, Interior.

ACTION: Notice of availability; request for comments.

SUMMARY: We, the U.S. Fish and Wildlife Service (Service), announce the availability of the draft comprehensive conservation plan (CCP) and Environmental Assessment (EA) for Great Bay National Wildlife Refuge (NWR) for public review and comment. Great Bay NWR is located in Newington, New Hampshire, and is administered by staff at Parker River NWR in Newburyport, Massachusetts. The draft CCP/EA describes three alternatives for managing Great Bay NWR for the next 15 years. Alternative B is identified as the Service-preferred alternative. Also available for public review and comment are the draft compatibility determinations, which are included as appendix C in the draft CCP/EA.

DATES: To ensure our consideration of your written comments, please send them by March 12, 2012. We will also hold public meetings. We will announce those meetings and other opportunities for public input in local news media, via our project mailing list, and on our Regional planning Web site: http://www.fws.gov/northeast/planning/Great%20bay/ccphome.html.

ADDRESSES: You may submit comments or requests for copies or more information by any of the following methods. You may request hard copies or a CD-ROM of the documents.

Email: northeastplanning@fws.gov. Please include “Great Bay CCP” in the subject line of your email.

U.S. Mail: Nancy McGarigal, Natural Resource Planner, U.S. Fish and Wildlife Service, 300 Westgate Center Drive, Hadley, MA 01035.

Fax: Attention: Nancy McGarigal, (413) 253-8468.

In-Person Drop-off, Viewing, or Pickup: Call Parker River NWR headquarters during regular business hours at (978) 465-5753 to make an appointment to view the document at Great Bay NWR, 100 Merrimac Drive, Newington, NH 03801.

FOR FURTHER INFORMATION CONTACT: Graham Taylor, Refuge Manager, Parker River NWR, 6 Plum Island Turnpike, Newburyport, MA 01950; phone: 978-465-5753; fax: (978) 465-2807; email: fw5rw_prnwr@fws.gov.

SUPPLEMENTARY INFORMATION:

Introduction

With this notice, we continue the CCP process for Great Bay NWR. We published our original notice of intent to prepare a CCP in the Federal Register on June 17, 2009 (74 FR 28722).

Great Bay NWR was established in 1992 to conserve natural diversity, protect federally listed species and other species of conservation concern, and preserve and enhance water quality. The 1,103-acre refuge is located on a portion of the former Pease Air Force Base. Despite its past land uses, including active military operations and a weapons storage area, the refuge has a diversity of habitat types including oak-hickory forest, grasslands, shrub thickets, fresh and saltwater wetlands, and open water habitats. The refuge also includes 7 miles of shoreline, and is the largest parcel of protected land on Great Bay. These habitats provide important habitat for wintering waterfowl and bald eagles, as well as shorebirds, wading birds, and other wildlife and plant species of conservation concern.

Great Bay NWR also offers a wide range of wildlife-dependent recreational opportunities. Two interpretive trails covering 2.5 miles provide visitors with excellent wildlife observation and nature photography opportunities. Additionally, the refuge offers a 2-day, white-tailed deer hunt each fall.

The refuge also includes a 29-acre conservation easement, located in Concord, New Hampshire, that is managed primarily for the federally endangered Karner blue butterfly. The easement has a mix of open pitch pine-scrub, pine hardwood, and other scrubland. Since 2008, Great Bay NWR and the Karner blue butterfly easement have been managed by staff located at Parker River NWR in Newburyport, Massachusetts.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update each CCP at least every 15 years, in accordance with the Refuge Administration Act.

Public Outreach

In June 2009, we distributed a planning newsletter to several hundred people on our project mailing list. The newsletter informed people about the planning process and asked recipients to contact us about issues or concerns they would like us to address. We also posted the newsletter on our Web site for people to access electronically. In addition, we notified the general public of our planning project, and our interest in hearing about issues and concerns, by publishing news releases in local newspapers. We also held afternoon and evening public scoping meetings on June 18, 2009, in Newington, New Hampshire. The purpose of the two meetings was to share information on the planning process and to solicit management issues and concerns. Throughout the process, refuge staff have conducted additional outreach via participation in community meetings, events, and other public forums. We have considered and evaluated all of the comments we received and addressed them in various ways in the alternatives presented in the draft CCP/EA.

CCP Alternatives We Are Considering

During the scoping process, which initiated work on our draft CCP/EA, we, other governmental partners, and the public raised the following general issues that are further detailed and addressed in the draft CCP/EA:

• Which habitats and species should be a focus for management, and how will we manage for them on the refuge?

• How can we address concerns about the biological diversity, health, and integrity of the refuges' forests, wetlands, and shoreline given limited staffing and budgets?

• Which invasive species should be a priority for control on refuge lands, and what specific techniques will we use to control them?

• How can the refuge work with partners to address regional-scale conservation concerns, such as climate change, water quality, and habitat fragmentation?

• What are the appropriate types and levels of wildlife-dependent uses to offer on the refuge? What partnership opportunities exist and what staffing levels are needed to enhance and expand our public use programs?

• How will we preserve, protect, and interpret cultural resources on refuge lands? How should we address historical structures on the refuge?

• How will we address environmental contaminants resulting from past land uses and from offsite activities?

We developed three management alternatives in the draft CCP/EA for Great Bay NWR to address these issues and to achieve the refuge's establishment purposes, and the vision and goals we developed. The full description of the alternatives is presented in the draft CCP/EA. The alternatives identify several actions in common. All alternatives include measures to protect the rocky shoreline habitat, control invasive species, protect cultural resources, monitor for climate change impacts, distribute refuge revenue sharing payments, and continue participation in conservation and education partnerships. There are also several actions that are common to both alternatives B and C. These include constructing a new joint administrative office and visitor contact station, and evaluating the need for additional land protection.

There are other actions that differ among the alternatives. The draft CCP/EA describes each alternative in detail and relates it to the issues and concerns that arose during the planning process. Below, we provide summaries for the three alternatives.

Great Bay NWR Alternatives

Alternative A (Current Management)

This alternative is the “No Action” alternative required by the National Environmental Policy Act. Alternative A defines our current management activities, including those planned, funded, or underway, and serves as the baseline against which to compare alternatives B and C. Under alternative A, Great Bay NWR would remain unstaffed, and we would not change our current visitor services facilities, including existing trails and viewing platforms. Our biological program priorities would continue to be managing impoundments for migratory birds, managing grasslands for upland sandpipers and other grassland-dependent species of concern, and inventorying and controlling invasive plants. We would continue to provide wildlife observation and photography opportunities on two trails, and implement a 2-day, fall deer hunt in partnership with the New Hampshire Fish and Game Department (NHFG).

Management on the Karner blue butterfly easement would not change. We would continue to cooperate with NHFG to implement habitat management. One undeveloped trail would provide access, with limited information about the butterfly and management posted on a kiosk.

Alternative B (Habitat Diversity and Focal Species Emphasis; Service-Preferred Alternative)

Alternative B is the Service-preferred alternative. It combines the actions we believe would best achieve the refuge's purposes, vision, and goals and respond to public issues. Under alternative B, we would emphasize the management of specific refuge habitats to support focal species whose habitat needs would benefit other species of conservation concern that are found in the Great Bay region. Focal species include migrating and wintering waterfowl, migratory songbirds, breeding upland sandpiper, and rare and declining species, such as the New England cottontail and Karner blue butterfly. Habitat restoration work on refuge lands would also benefit forest-dwelling bats and migratory fish. We would also expand our conservation, research, and management partnerships to help restore and conserve the Great Bay estuarine ecosystem.

This alternative would enhance our visitor services programs, which have been limited under current management due to lack of staff. On Great Bay NWR, our improvements would include new interpretive materials, more programs for visitors to learn about the refuge and the surrounding landscape, and an extension to an existing trail that provides opportunities for wildlife observation and photography. We would also evaluate opportunities to expand the hunting program to include turkey hunting and a bow season for deer. On the Karner blue butterfly easement, we propose to install new interpretive signs, offer guided interpretive walks, and enhance our Web site with updated information.

Alternative C (Enhanced Public Use Management)

Alternative C would rely primarily on ecosystem processes and natural disturbances to restore the biological integrity, diversity, and ecological health of the refuge. All grassland and shrubland habitat on Great Bay NWR would be allowed to naturally succeed to forest. All three refuge impoundments would be removed, restoring Peverly Brook to stream habitat and returning Stubbs Pond to salt marsh. We would also remove all remaining structures in the former weapons storage area.

Under this alternative, we would expand the refuge visitor services program and public access. We would construct two new trails, and after shrubland and grassland habitats transition to forest, we would open up larger portions of the refuge to public use. The management of the Karner blue butterfly easement would be the same as that proposed under alternative B.

Public Availability of Documents

In addition to any methods in ADDRESSES, you can view or obtain documents from the agency Web site at: http://www.fws.gov/northeast/planning/Great%20bay/ccphome.html.

Next Steps

After this comment period ends, we will analyze the comments and address them in the form of a final CCP and finding of no significant impact.

Public Availability of Comments

Before including your address, phone number, electronic mail address, or other personal identifying information in your comments, you should be aware that your entire comment—including your personal identifying information—may be made publicly available at any time. While you can ask us in your comment to withhold your personal identifying information from public review, we cannot guarantee that we will be able to do so.

Dated: January 20, 2012.
Wendi Weber,
Regional Director, U.S. Fish and Wildlife Service.

[FR Doc. 2012-3108 Filed 2-9-12; 8:45 am]

BILLING CODE 4310-55-P